DEPARTMENT OF TRANSPORTATION

Federal Aviation Administration

14 CFR Part 39

[Docket No. FAA-2006-25988; Directorate Identifier 2006-NM-113-AD]

RIN 2120-AA64

Airworthiness Directives; Dassault Model Mystere-Falcon 50 and 900 Airplanes and Falcon 900EX Airplanes, and Model Falcon 2000 and Falcon 2000EX Airplanes

AGENCY: Federal Aviation Administration (FAA), Department of Transportation (DOT).

ACTION: Notice of proposed rulemaking (NPRM).

SUMMARY: The FAA proposes to adopt a new airworthiness directive (AD) for certain Dassault Model Mystere-Falcon 50 and 900 airplanes and Falcon 900EX airplanes, and Model Falcon 2000 and Falcon 2000EX airplanes. This proposed AD would require an inspection of the identification plates of the outboard slats to determine the type of identification plates and the P/Ns. For certain airplanes, this proposed AD would also require a revision to the Limitations and Normal Procedures sections of the airplane flight manual to provide procedures for operation in icing conditions; and replacement of the anti-icing manifold with an anti-icing manifold of the correct type design if necessary. For certain airplanes, this proposed AD would also require related investigative and corrective actions if necessary. This proposed AD results from a finding that the outboard slats for Model Mystere-Falcon 50 airplanes have been erroneously authorized, in limited cases, as interchangeable for use on Model Mystere-Falcon 900 airplanes and Falcon 900EX airplanes, and Model Falcon 2000 and Falcon 2000EX airplanes. We are proposing this AD to prevent failure of the anti-icing manifold of the outboard slats, which could result in loss of control of the airplane.

DATES: We must receive comments on this proposed AD by November 6, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Dassault Falcon Jet, P.O. Box 2000, South Hackensack, New Jersey 07606, for service information identified in this proposed AD.

FOR FURTHER INFORMATION CONTACT: Tom Rodriguez, Aerospace Engineer, International Branch, ANM-116, FAA, Transport Airplane Directorate, 1601 Lind Avenue, SW., Renton, Washington 98057-3356; telephone (425) 227-1137; fax (425) 227-1149.

SUPPLEMENTARY INFORMATION:

Comments Invited

We invite you to submit any relevant written data, views, or arguments regarding this proposed AD. Send your comments to an address listed in the ADDRESSES section. Include the docket number “FAA-2006-25988; Directorate Identifier 2006-NM-113-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The European Aviation Safety Agency (EASA), which is the airworthiness authority for the European Union, notified us that an unsafe condition may exist on certain Dassault Model Mystere-Falcon 50 and 900 airplanes and Falcon 900EX airplanes, and Model Falcon 2000 and Falcon 2000EX airplanes. The EASA advises that the outboard slats for Model Mystere-Falcon 50 airplanes have been erroneously authorized, in limited cases, as interchangeable for use on Model Mystere-Falcon 900 airplanes and Falcon 900EX airplanes, and on Model Falcon 2000 and Falcon 2000EX airplanes. The outboard slats for all five of these airplane models are aerodynamically identical on many points; they have the same external shape and are mechanically interchangeable. However, the hot air anti-icing systems of the outboard slats on the Model Mystere-Falcon 50 airplanes are different from those on the other four airplane models. Therefore, the outboard slats of the Model Mystere-Falcon 50 airplanes are not functionally equivalent. Exchange of outboard slats among the five affected models could have occurred after airplane delivery, resulting in installation of outboard slats having anti-icing manifolds of the incorrect type design. Repairs also could have led to installation of anti-icing manifolds of the incorrect type design. Failure of the anti-icing manifolds of the outboard slats, if not corrected, could result in loss of control of the airplane.

Relevant Service Information

Dassault has issued the service bulletins identified in the following table.

Dassault Service Bulletin— | Dated— | For model—
F2000-331 | January 30, 2006 | Falcon 2000 airplanes.
F2000EX-91 | January 30, 2006 | Falcon 2000EX airplanes.
F50-475 | January 30, 2006 | Mystere-Falcon 50 airplanes.
F50-478 | January 30, 2006 | Mystere-Falcon 50 airplanes.
F900-370 | January 30, 2006 | Mystere-Falcon 900 airplanes.
F900EX-273 | January 30, 2006 | Falcon 900EX airplanes.

Dassault Service Bulletin F50-475 describes the following procedures:

• Checking the airplane logbook to determine if any outboard slat has been replaced.

• If one or more outboard slats has been replaced after June 1986 or if the airplane records are incomplete, the service bulletin specifies inspecting the identification plates of the outboard slats to determine the type of identification plates installed and the inscribed P/Ns.

• If a “type 3” identification plate is installed and mentions “REP,” “WILMINGTON,” “LITTLE ROCK,” or any other repair station, or if all plates found raise any doubt as to whether the slat is in conformity with the airplane's type design, the service bulletin specifies performing a “go-no-go” diameter check of the air distribution holes of the manifold using a 0.08-inch (2-mm) drill bit shank.

• If the drill bit shank can be inserted through the air distribution holes of the manifold, if a “type 1” identification plate is installed and inscribed with P/Ns FGFB134XX or FGFB144XX, or if a slat has multiple identification plates and the vertical field of the most recent plate is inscribed with “F900” or “MF900,” the service bulletin specifies accomplishing Dassault Service Bulletin F50-478 within 1,530 flight hours; and, before further flight, incorporating Dassault Temporary Change (TC) 61, dated January 27, 2006, into the Dassault Mystere-Falcon 50 Airplane Flight Manual (AFM), DTM 813, or incorporating Dassault TC 75, dated January 27, 2006, into the Dassault Mystere-Falcon 50EX AFM, FM813EX, as applicable.

• Recording compliance with applicable part of the service bulletin and reporting certain information to airplane manufacturer.

Dassault Service Bulletin F50-478 describes procedures for replacing the anti-icing manifold with an anti-icing manifold of the correct type design.

Dassault TC 61, dated January 27, 2006, to the Dassault Mystere-Falcon 50 AFM, DTM 813; and Dassault TC 75, dated January 27, 2006, to the Dassault Mystere-Falcon 50EX AFM, FM813EX, provide procedures for operation in icing conditions.

Dassault Service Bulletins F900-370, F900EX-273, F2000-331, and F2000EX-91 describe procedures for checking the airplane logbook to determine if any outboard slat has been replaced. If one or more outboard slats has been replaced or if the airplane records are incomplete, the service bulletins also describe procedures for inspecting the identification plates of the outboard slats to determine the type of identification plates installed and the inscribed P/Ns and, if necessary, accomplishing related investigative and corrective actions. The service bulletins specify accomplishing the related investigative action if a “type 3” identification plate is installed and mentions “REP,” “WILMINGTON,” “LITTLE ROCK,” or any other repair station, or if all plates found raise any doubt as whether the slat is in conformity with the airplane's type design. The related investigative action includes performing a “go-no-go” diameter check of the air distribution holes of the manifold using a 0.08-inch (2-mm) drill bit shank. The service bulletins specify accomplishing the corrective action if the drill bit shank cannot be inserted through the air distribution holes of the manifold, if a “type 1” identification plate is installed and inscribed with P/Ns F50B134XX or F50B144XX, or if a slat has multiple identification plates and the vertical field of the most recent plate is inscribed with “F50B” or “MF50.” The corrective action includes modifying the manifold by enlarging all 80 air distribution holes. If certain types of identification plates are installed and inscribed with certain P/Ns, or after the corrective action is accomplished, the service bulletins also specify recording compliance with the service bulletin and reporting certain information to airplane manufacturer.

Accomplishing the actions specified in the service information is intended to adequately address the unsafe condition. The EASA mandated the service information and issued airworthiness directive 2006-0037, dated February 1, 2006, to ensure the continued airworthiness of these airplanes in the European Union.

FAA's Determination and Requirements of the Proposed AD

These airplane models are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for airplanes of this type design that are certificated for operation in the United States.

Therefore, we are proposing this AD, which would require accomplishing the actions specified in the service information described previously, except as discussed under “Difference Between the Proposed AD and Service Bulletins.”

Difference Between the Proposed AD and Service Bulletins

Dassault Service Bulletins F50-475, F900-370, F900EX-273, F2000-331, and F2000EX-91 recommend first checking the airplane logbook to determine if any outboard slat has been replaced and then, if necessary, inspecting the identification plates of the outboard slats to determine the type of identification plates installed and the inscribed P/Ns. Instead, this proposed AD would first require the inspection of the identification plates of the outboard slats. However, this proposed AD would also allow a review of the airplane maintenance records in lieu of this inspection if the type of identification plate and the P/Ns of the outboard slats can be determined conclusively from that review.

Costs of Compliance

This proposed AD would affect about 637 airplanes of U.S. registry. The proposed inspection would take about 2 work hours per airplane, at an average labor rate of $80 per work hour. Based on these figures, the estimated cost of the proposed AD for U.S. operators is $101,920, or $160 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Dassault Aviation: Docket No. FAA-2006-25988; Directorate Identifier 2006-NM-113-AD.

Comments Due Date

(a) The FAA must receive comments on this AD action by November 6, 2006.

Affected ADs

(b) None.

Applicability

(c) This AD applies to the airplanes identified in Table 1 of this AD, certificated in any category.

Table 1.—Applicability
Dassault model— | Serial Nos.—
Mystere-Falcon 50 airplanes | 2 through 344 inclusive.
Mystere-Falcon 900 airplanes | 1 through 202 inclusive.
Falcon 900EX airplanes | 1 through 96 inclusive and 98 through 154 inclusive.
Falcon 2000 airplanes | 1 through 223 inclusive.
Falcon 2000EX airplanes | 1 through 69 inclusive.

Unsafe Condition

(d) This AD results from a finding that the outboard slats for Model Mystere-Falcon 50 airplanes have been erroneously authorized, in limited cases, as interchangeable for use on Model Mystere-Falcon 900 airplanes and Falcon 900EX airplanes, and Model Falcon 2000 and Falcon 2000EX airplanes. We are issuing this AD to prevent failure of the anti-icing manifold of the outboard slats, which could result in loss of control of the airplane.

Compliance

(e) You are responsible for having the actions required by this AD performed within the compliance times specified, unless the actions have already been done.

Service Bulletin References

(f) The term “service bulletin,” as used in this AD, means the Accomplishment Instructions of the service bulletins identified in Table 2 of this AD, as applicable. Although the service bulletins referenced in Table 2 of this AD specify to submit certain information to the manufacturer, this AD does not include that requirement.

Table 2.—Service Bulletins
Dassault Service Bulletin— | Dated— | For model— | For the actions specified in—
F50-475 | January 30, 2006 | Mystere-Falcon 50 airplanes | Paragraph (g) of this AD.
F50-478 | January 30, 2006 | Mystere-Falcon 50 airplanes | Paragraph (g)(2) of this AD.
F900-370 | January 30, 2006 | Mystere-Falcon 900 airplanes | Paragraph (h) of this AD.
F900EX-273 | January 30, 2006 | Falcon 900EX airplanes | Paragraph (h) of this AD.
F2000-331 | January 30, 2006 | Falcon 2000 airplanes | Paragraph (h) of this AD.
F2000EX-91 | January 30, 2006 | Falcon 2000EX airplanes | Paragraph (h) of this AD.

Inspection and Corrective Actions for Model Mystere-Falcon 50 Airplanes

(g) For Model Mystere-Falcon 50 airplanes: Within 330 flight hours or 7 months after the effective date of this AD, whichever occurs first, inspect the identification plates of the outboard slats to determine the type of identification plates and the part numbers (P/Ns), in accordance with the applicable service bulletin. A review of airplane maintenance records is acceptable in lieu of the inspection if the type of identification plate and the P/Ns of the outboard slats can be determined conclusively from that review. If a “type 3” identification plate is installed and mentions “REP,” “WILMINGTON,” “LITTLE ROCK,” or any other repair station, or if the conformity of the slat with the airplane's type design cannot be positively confirmed, before further flight, do a “go-no-go” diameter check of the air distribution holes of the manifold using a drill bit shank, in accordance with the applicable service bulletin. If the drill bit shank can be inserted through the air distribution holes of the manifold, or if a “type 1” identification plate is installed and inscribed with P/N FGFB134XX or P/N FGFB144XX, or if a slat has multiple identification plates and the vertical field of the most recent plate is inscribed with “F900” or “MF900,” do the actions specified in paragraphs (g)(1) and (g)(2) of this AD.

(1) Before further flight after the inspection required by paragraph (g) of this AD: Revise the Limitations and Normal Procedures sections of the Dassault Mystere-Falcon 50 Airplane Flight Manual (AFM), DTM 813, to include the information in Dassault Temporary Change (TC) 61, dated January 27, 2006, as specified in the TC; or revise the Limitations and Normal Procedures sections of the Dassault Mystere-Falcon 50EX AFM, FM813EX, to include the information in Dassault TC 75, dated January 27, 2006, as specified in the TC; as applicable. These TCs introduce procedures for operation in icing conditions. Operate the airplane according to the limitations and procedures in the applicable TC.

Note 1: This may be done by inserting a copy of TC 61 or TC 75 in the AFM, as applicable. When the TC has been included in the general revisions of the AFM, the general revisions may be inserted in the AFM, provided that the relevant information in the general revision is identical to that in TC 61 or TC 75, as applicable.

(2) Within 1,530 flight hours after accomplishing the inspection required by paragraph (g) of this AD: Replace the anti-icing manifold with an anti-icing manifold of the correct type design, by accomplishing all of the actions specified in the applicable service bulletin, except as provided by paragraph (f) of this AD. Accomplishing the replacement terminates the requirements of paragraph (g)(1) of this AD. After the replacement has been done, the AFM limitation required by paragraph (g)(1) of this AD may be removed from the AFM.

Inspection and Replacement for Certain Airplanes

(h) For Model Mystere-Falcon 900 airplanes and Falcon 900EX airplanes, and Model Falcon 2000 and Falcon 2000EX airplanes: Within 330 flight hours or 7 months after the effective date of this AD, whichever occurs first, inspect the identification plates of the outboard slats to determine the type of identification plates and the P/Ns, and do all related investigative and corrective actions, by accomplishing all of the actions specified in the service bulletin, as applicable, except as provided by paragraph (f) of this AD. Do all applicable related investigative and corrective actions before further flight. A review of airplane maintenance records is acceptable in lieu of the inspection if the type of identification plate and the P/Ns of the outboard slats can be determined conclusively from that review.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) European Aviation Safety Agency (EASA) airworthiness directive 2006-0037, dated February 1, 2006, also addresses the subject of this AD.

Issued in Renton, Washington, on September 28, 2006.
Kalene C. Yanamura,
Acting Manager, Transport Airplane Directorate, Aircraft Certification Service.

[FR Doc. E6-16452 Filed 10-4-06; 8:45 am]

BILLING CODE 4910-13-P